COMMODITY FUTURES TRADING COMMISSION

Membership of the Commission's Performance Review Board

AGENCY: Commodity Futures Trading Commission.

ACTION: Membership change of Performance Review Board.

SUMMARY: In accordance with the Office of Personnel Management guidance under the Civil Service Reform Act of 1978, notice is given that the following employees will serve as members of the Commission's Performance Review Board.

Members: Madge A. Bolinger, Acting Executive Director, Chairman; Andrea M. Corcoran, Director, Office of International Affairs; David R. Merrill, Deputy General Counsel, Office of General Counsel; Gregory G. Mocek, Director, Division of Enforcement; and Patrick J. McCarty, General Counsel, Office of General Counsel.

DATES: This action will be effective on September 18, 2002.

ADDRESSES: Commodity Futures Trading Commission, Office of Human Resources, Three Lafayette Centre, 1155 21st Street, NW., Suite 4100, Washington, DC 20581.

FOR FURTHER INFORMATION CONTACT: Marsha E. Scialdo, Director, Office of Human Resources, Commodity Futures Trading Commission, Three Lafayette Centre, 1155 21st Street, NW., suite 4100, Washington, DC 20581, (202) 418-5003.

SUPPLEMENTARY INFORMATION: This action which changes the membership of the Board supersedes the previously published Federal Register Notice, August 31, 2001.

Issued in Washington, DC on September 18, 2002.
Jean A. Webb,
Secretary of the Commission.

[FR Doc. 02-24226 Filed 9-23-02; 8:45 am]

BILLING CODE 6351-01-M